DEPARTMENT OF TRANSPORTATION

Federal Aviation Administration

Notice of Permanent Closure

AGENCY: Federal Aviation Administration (FAA), DOT.

ACTION: Notice.

SUMMARY: The Federal Aviation Administration received written notice from the Alaska Department of Transportation (AKDOT) advising that infrastructure associated with Juneau, Alaska Seaplane Base (5Z1) in Harris Harbor was permanently removed and that 5Z1 is permanently closed.

DATES: The permanent closure of the seaplane base is retroactively effective.

FOR FURTHER INFORMATION CONTACT: Molly Fierro, Compliance Manager, Federal Aviation Administration, Alaskan Region Airports District Office, 222 W 7th Avenue, Anchorage, AK 99513. Telephone Number: (907) 271-5439/FAX Number: (907) 271-2851.

SUPPLEMENTARY INFORMATION: Ownership of infrastructure associated with 5Z1 (Harris Harbor) was transferred to the City of Borough of Juneau (CBJ) in 2003. As the docks were no longer being utilized, the CBJ removed the infrastructure in September of 2020. The FAA hereby retroactively publishes the AKDOTs and CBJs notice of permanent closure of the Juneau Seaplane Base in Harris Harbor (5Z1) in accordance with 49 U.S.C 46319(b).

Issued in Anchorage, Alaska.
Kristi A. Warden,
Director, Airports Division, FAA, Alaskan Region.

[FR Doc. 2020-24372 Filed 11-3-20; 8:45 am]

BILLING CODE 4910-13-P